DEPARTMENT OF THE INTERIOR

National Park Service

[NPS-WASO-NRNHL-10980; 2200-3200-665]

National Register of Historic Places; Notification of Pending Nominations and Related Actions

Nominations for the following properties being considered for listing or related actions in the National Register were received by the National Park Service before July 28, 2012. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by September 10, 2012. Before including your address, phone number, email address, or other personal identifying information in your comment, you should be aware that your entire comment—including your personal identifying information—may be made publicly available at any time. While you can ask us in your comment to withhold your personal identifying information from public review, we cannot guarantee that we will be able to do so.

Dated: August 1, 2012.
J. Paul Loether,
Chief, National Register of Historic Places/National Historic Landmarks Program.

DISTRICT OF COLUMBIA

District of Columbia

Peyser Building—Security Savings and Commercial Bank, (Banks and Financial Institutions MPS), 1518 K St. NW., Washington, 12000777

Westory Building, 607 14th St. NW., Washington, 12000778

IOWA

Monona County

Ingemann Danish Evangelical Lutheran Church and Cemetery, 32044 Cty. Rd. E54, Moorhead, 12000779

Pottawattamie County

McCormick Harvesting Machine Company Building, 1001 S. 6th St., Council Bluffs, 12000780

MASSACHUSETTS

Hampden County

Hampden Park Historic District, Roughly bounded by Hampden, Chestnut, Maple, & Dwight Sts., Holyoke, 12000781

School Street Barn, 551 School St., Agawam, 12000782

Suffolk County

Saint Mark's Episcopal Church, 73 Columbia Rd., Boston, 12000783

MONTANA

Lewis and Clark County

Western Life Insurance Company Helena Branch Office, 600 N. Park Ave., Helena, 12000784

NEBRASKA

Lancaster County

Lincoln Veterans Administration Hospital Historic District, (United States Second Generation Veterans Hospitals MPS) 600 S. 70th St., Lincoln, 12000785

OKLAHOMA

Oklahoma County

Mayfair, The, (Midtown Brick Box Apartments 1910-1935, Oklahoma City MPS), 1315 N. Broadway Pl., Oklahoma City, 12000786

TEXAS

Bexar County

Hays Street Bridge, (Historic Bridges of Texas MPS) Hays St. over UPRR, N. Cherry, & Chestnut Sts., San Antonio, 12000787

Travis County

East Main Street Historic District, 111, 113, 115, & 117 E. Main St., Pflugerville, 12000788

UTAH

Carbon County

42Cb0680, (Nine Mile Canyon, Utah MPS) Address Restricted, Price, 12000624

42Cb0138, (Nine Mile Canyon, Utah MPS) Address Restricted, Price, 12000611

42Cb0144, (Nine Mile Canyon, Utah MPS) Address Restricted, Price, 12000639

42Cb0146, (Nine Mile Canyon, Utah MPS) Address Restricted, Price, 12000612

42Cb0230, (Nine Mile Canyon, Utah MPS) Address Restricted, Price, 12000638

42Cb0240, (Nine Mile Canyon, Utah MPS) Address Restricted, Price, 12000613

42Cb0264, (Nine Mile Canyon, Utah MPS) Address Restricted, Price, 12000614

42Cb0593, (Nine Mile Canyon, Utah MPS) Address Restricted, Price, 12000615

42Cb0594, (Nine Mile Canyon, Utah MPS) Address Restricted, Price, 12000616

42Cb0628, (Nine Mile Canyon, Utah MPS) Address Restricted, Price, 12000617

42Cb0629, (Nine Mile Canyon, Utah MPS) Address Restricted, Price, 12000619

42Cb0630, (Nine Mile Canyon, Utah MPS) Address Restricted, Price, 12000620

42Cb0632, (Nine Mile Canyon, Utah MPS) Address Restricted, Price, 12000621

42Cb0637, (Nine Mile Canyon, Utah MPS) Address Restricted, Price, 12000637

42Cb0641, (Nine Mile Canyon, Utah MPS) Address Restricted, Price, 12000622

42Cb0668, (Nine Mile Canyon, Utah MPS) Address Restricted, Price, 12000618

42Cb0676, (Nine Mile Canyon, Utah MPS) Address Restricted, Price, 12000623

42Cb0678, (Nine Mile Canyon, Utah MPS) Address Restricted, Price, 12000636

42Cb0693, (Nine Mile Canyon, Utah MPS) Address Restricted, Price, 12000625

42Cb0695, (Nine Mile Canyon, Utah MPS) Address Restricted, Price, 12000626

42Cb0696, (Nine Mile Canyon, Utah MPS) Address Restricted, Price, 12000627

42Cb0698, (Nine Mile Canyon, Utah MPS) Address Restricted, Price, 12000628

42Cb0700, (Nine Mile Canyon, Utah MPS) Address Restricted, Price, 12000635

42Cb0701, (Nine Mile Canyon, Utah MPS) Address Restricted, Price, 12000629

42Cb0702, (Nine Mile Canyon, Utah MPS) Address Restricted, Price, 12000630

42Cb0703, (Nine Mile Canyon, Utah MPS) Address Restricted, Price, 12000631

42Cb0704, (Nine Mile Canyon, Utah MPS) Address Restricted, Price, 12000632

42Cb0705, (Nine Mile Canyon, Utah MPS) Address Restricted, Price, 12000633

42Cb0707, (Nine Mile Canyon, Utah MPS) Address Restricted, Price, 12000634

42Cb0708, (Nine Mile Canyon, Utah MPS) Address Restricted, Price, 12000640

42Cb0709, (Nine Mile Canyon, Utah MPS) Address Restricted, Price, 12000641

42Cb0712, (Nine Mile Canyon, Utah MPS) Address Restricted, Price, 12000642

42Cb0713, (Nine Mile Canyon, Utah MPS) Address Restricted, Price, 12000643

42Cb0714, (Nine Mile Canyon, Utah MPS) Address Restricted, Price, 12000644

42Cb0715, (Nine Mile Canyon, Utah MPS) Address Restricted, Price, 12000645

42Cb0718, (Nine Mile Canyon, Utah MPS) Address Restricted, Price, 12000646

42Cb0734, (Nine Mile Canyon, Utah MPS) Address Restricted, Price, 12000647

42Cb0735, (Nine Mile Canyon, Utah MPS) Address Restricted, Price, 12000648

42Cb0742, (Nine Mile Canyon, Utah MPS) Address Restricted, Price, 12000649

42Cb0747, (Nine Mile Canyon, Utah MPS) Address Restricted, Price, 12000650

42Cb0749, (Nine Mile Canyon, Utah MPS) Address Restricted, Price, 12000651

42Cb0750, (Nine Mile Canyon, Utah MPS) Address Restricted, Price, 12000652

42Cb0751, (Nine Mile Canyon, Utah MPS) Address Restricted, Price, 12000653

42Cb0752, (Nine Mile Canyon, Utah MPS) Address Restricted, Price, 12000654

42Cb0753, (Nine Mile Canyon, Utah MPS) Address Restricted, Price, 12000655

42Cb0754, (Nine Mile Canyon, Utah MPS) Address Restricted, Price, 12000656

42Cb0755, (Nine Mile Canyon, Utah MPS) Address Restricted, Price, 12000657

42Cb0756, (Nine Mile Canyon, Utah MPS) Address Restricted, Price, 12000658

42Cb0757, (Nine Mile Canyon, Utah MPS) Address Restricted, Price, 12000659

42Cb0758, (Nine Mile Canyon, Utah MPS) Address Restricted, Price, 12000660

42Cb0759, (Nine Mile Canyon, Utah MPS) Address Restricted, Price, 12000661

42Cb0760, (Nine Mile Canyon, Utah MPS) Address Restricted, Price, 12000662

42Cb0761, (Nine Mile Canyon, Utah MPS) Address Restricted, Price, 12000663

42Cb0766, (Nine Mile Canyon, Utah MPS) Address Restricted, Price, 12000666

42Cb0767, (Nine Mile Canyon, Utah MPS) Address Restricted, Price, 12000664

42Cb0769, (Nine Mile Canyon, Utah MPS) Address Restricted, Price, 12000665

42Cb0771, (Nine Mile Canyon, Utah MPS) Address Restricted, Price, 12000667

42Cb0775, (Nine Mile Canyon, Utah MPS) Address Restricted, Price, 12000668

42Cb0776, (Nine Mile Canyon, Utah MPS) Address Restricted, Price, 12000669

42Cb0777, (Nine Mile Canyon, Utah MPS) Address Restricted, Price, 12000670

42Cb0778, (Nine Mile Canyon, Utah MPS) Address Restricted, Price, 12000671

42Cb0779, (Nine Mile Canyon, Utah MPS) Address Restricted, Price, 12000672

42Cb0780, (Nine Mile Canyon, Utah MPS) Address Restricted, Price, 12000673

42Cb0781, (Nine Mile Canyon, Utah MPS) Address Restricted, Price, 12000674

42Cb0783, (Nine Mile Canyon, Utah MPS) Address Restricted, Price, 12000675

42Cb0787, (Nine Mile Canyon, Utah MPS) Address Restricted, Price, 12000676

42Cb0788, (Nine Mile Canyon, Utah MPS) Address Restricted, Price, 12000677

42Cb0790, (Nine Mile Canyon, Utah MPS) Address Restricted, Price, 12000678

42Cb0791, (Nine Mile Canyon, Utah MPS) Address Restricted, Price, 12000679

42Cb0792, (Nine Mile Canyon, Utah MPS) Address Restricted, Price, 12000680

42Cb0794, (Nine Mile Canyon, Utah MPS) Address Restricted, Price, 12000681

42Cb0802, (Nine Mile Canyon, Utah MPS) Address Restricted, Price, 12000682

42Cb0803, (Nine Mile Canyon, Utah MPS) Address Restricted, Price, 12000683

42Cb0806, (Nine Mile Canyon, Utah MPS) Address Restricted, Price, 12000684

42Cb0807, (Nine Mile Canyon, Utah MPS) Address Restricted, Price, 12000685

42Cb0808, (Nine Mile Canyon, Utah MPS) Address Restricted, Price, 12000686

42Cb0810, (Nine Mile Canyon, Utah MPS) Address Restricted, Price, 12000687

42Cb0812, (Nine Mile Canyon, Utah MPS) Address Restricted, Price, 12000688

42Cb0813, (Nine Mile Canyon, Utah MPS) Address Restricted, Price, 12000689

42Cb0814, (Nine Mile Canyon, Utah MPS) Address Restricted, Price, 12000690

42Cb0825, (Nine Mile Canyon, Utah MPS) Address Restricted, Price, 12000691

42Cb0829, (Nine Mile Canyon, Utah MPS) Address Restricted, Price, 12000692

42Cb0831, (Nine Mile Canyon, Utah MPS) Address Restricted, Price, 12000693

42Cb0832, (Nine Mile Canyon, Utah MPS) Address Restricted, Price, 12000695

42Cb0834, (Nine Mile Canyon, Utah MPS) Address Restricted, Price, 12000694

42Cb0859, (Nine Mile Canyon, Utah MPS) Address Restricted, Price, 12000696

42Cb0863, (Nine Mile Canyon, Utah MPS) Address Restricted, Price, 12000697

42Cb0866, (Nine Mile Canyon, Utah MPS) Address Restricted, Price, 12000698

42Cb0867, (Nine Mile Canyon, Utah MPS) Address Restricted, Price, 12000699

42Cb0868, (Nine Mile Canyon, Utah MPS) Address Restricted, Price, 12000700

42Cb0869, (Nine Mile Canyon, Utah MPS) Address Restricted, Price, 12000701

42Cb0870, (Nine Mile Canyon, Utah MPS) Address Restricted, Price, 12000702

42Cb0872, (Nine Mile Canyon, Utah MPS) Address Restricted, Price, 12000703

42Cb0875, (Nine Mile Canyon, Utah MPS) Address Restricted, Price, 12000706

42Cb0877, (Nine Mile Canyon, Utah MPS) Address Restricted, Price, 12000704

42Cb0880, (Nine Mile Canyon, Utah MPS) Address Restricted, Price, 12000707

42Cb0881, (Nine Mile Canyon, Utah MPS) Address Restricted, Price, 12000708

42Cb0882, (Nine Mile Canyon, Utah MPS) Address Restricted, Price, 12000709

42Cb0883, (Nine Mile Canyon, Utah MPS) Address Restricted, Price, 12000710

42Cb0884, (Nine Mile Canyon, Utah MPS) Address Restricted, Price, 12000711

42Cb0885, (Nine Mile Canyon, Utah MPS) Address Restricted, Price, 12000712

42Cb0886, (Nine Mile Canyon, Utah MPS) Address Restricted, Price, 12000713

42Cb0888, (Nine Mile Canyon, Utah MPS) Address Restricted, Price, 12000714

42Cb0889, (Nine Mile Canyon, Utah MPS) Address Restricted, Price, 12000715

42Cb0890, (Nine Mile Canyon, Utah MPS) Address Restricted, Price, 12000716

42Cb0891, (Nine Mile Canyon, Utah MPS) Address Restricted, Price, 12000717

42Cb0892, (Nine Mile Canyon, Utah MPS) Address Restricted, Price, 12000718

42Cb0894, (Nine Mile Canyon, Utah MPS) Address Restricted, Price, 12000719

42Cb0895, (Nine Mile Canyon, Utah MPS) Address Restricted, Price, 12000720

42Cb0896, (Nine Mile Canyon, Utah MPS) Address Restricted, Price, 12000721

42Cb0898, (Nine Mile Canyon, Utah MPS) Address Restricted, Price, 12000722

42Cb0899, (Nine Mile Canyon, Utah MPS) Address Restricted, Price, 12000723

42Cb0900, (Nine Mile Canyon, Utah MPS) Address Restricted, Price, 12000724

42Cb0911, (Nine Mile Canyon, Utah MPS) Address Restricted, Price, 12000725

42Cb0912, (Nine Mile Canyon, Utah MPS) Address Restricted, Price, 12000726

42Cb0919, (Nine Mile Canyon, Utah MPS) Address Restricted, Price, 12000727

42Cb0920, (Nine Mile Canyon, Utah MPS) Address Restricted, Price, 12000728

42Cb0921, (Nine Mile Canyon, Utah MPS) Address Restricted, Price, 12000729

42Cb0922, (Nine Mile Canyon, Utah MPS) Address Restricted, Price, 12000730

42Cb0923, (Nine Mile Canyon, Utah MPS) Address Restricted, Price, 12000731

42Cb0924, (Nine Mile Canyon, Utah MPS) Address Restricted, Price, 12000732

42Cb0955, (Nine Mile Canyon, Utah MPS) Address Restricted, Price, 12000733

42Cb0956, (Nine Mile Canyon, Utah MPS) Address Restricted, Price, 12000734

42Cb0970, (Nine Mile Canyon, Utah MPS) Address Restricted, Price, 12000735

42Cb0971, (Nine Mile Canyon, Utah MPS) Address Restricted, Price, 12000736

42Cb0972, (Nine Mile Canyon, Utah MPS) Address Restricted, Price, 12000737

42Cb0973, (Nine Mile Canyon, Utah MPS) Address Restricted, Price, 12000738

42Cb0975, (Nine Mile Canyon, Utah MPS) Address Restricted, Price, 12000739

42Cb0976, (Nine Mile Canyon, Utah MPS) Address Restricted, Price, 12000740

42Cb0977, (Nine Mile Canyon, Utah MPS) Address Restricted, Price, 12000741

42Cb0981, (Nine Mile Canyon, Utah MPS) Address Restricted, Price, 12000742

42Cb0982, (Nine Mile Canyon, Utah MPS) Address Restricted, Price, 12000743

42Cb0983, (Nine Mile Canyon, Utah MPS) Address Restricted, Price, 12000744

42Cb0984, (Nine Mile Canyon, Utah MPS) Address Restricted, Price, 12000745

42Cb0985, (Nine Mile Canyon, Utah MPS) Address Restricted, Price, 12000746

42Cb0986, (Nine Mile Canyon, Utah MPS) Address Restricted, Price, 12000747

42Cb0994, (Nine Mile Canyon, Utah MPS) Address Restricted, Price, 12000748

42Cb1045, (Nine Mile Canyon, Utah MPS) Address Restricted, Price, 12000749

42Cb1046, (Nine Mile Canyon, Utah MPS) Address Restricted, Price, 12000750

42Cb1047, (Nine Mile Canyon, Utah MPS) Address Restricted, Price, 12000751

42Cb1048, (Nine Mile Canyon, Utah MPS) Address Restricted, Price, 12000752

42Cb1049, (Nine Mile Canyon, Utah MPS) Address Restricted, Price, 12000753

42Cb1050, (Nine Mile Canyon, Utah MPS) Address Restricted, Price, 12000754

42Cb1051, (Nine Mile Canyon, Utah MPS) Address Restricted, Price, 12000755

42Cb1379, (Nine Mile Canyon, Utah MPS) Address Restricted, Price, 12000756

42Cb1466, (Nine Mile Canyon, Utah MPS) Address Restricted, Price, 12000757

42Cb1756, (Nine Mile Canyon, Utah MPS) Address Restricted, Price, 12000759

42Cb1757, (Nine Mile Canyon, Utah MPS) Address Restricted, Price, 12000760

42Cb2006, (Nine Mile Canyon, Utah MPS) Address Restricted, Price, 12000761

42Cb2007, (Nine Mile Canyon, Utah MPS) Address Restricted, Price, 12000762

42Cb2008, (Nine Mile Canyon, Utah MPS) Address Restricted, Price, 1200763

42Cb2009, (Nine Mile Canyon, Utah MPS) Address Restricted, Price, 12000764

42Cb2018, (Nine Mile Canyon, Utah MPS) Address Restricted, Price, 12000765

42Cb2019, (Nine Mile Canyon, Utah MPS) Address Restricted, Price, 12000766

42Cb2023, (Nine Mile Canyon, Utah MPS) Address Restricted, Price, 12000767

42Cb2025, (Nine Mile Canyon, Utah MPS) Address Restricted, Price, 12000768

42Cb2028, (Nine Mile Canyon, Utah MPS) Address Restricted, Price, 12000769

42Cb2031, (Nine Mile Canyon, Utah MPS) Address Restricted, Price, 12000770

42Cb2766, (Nine Mile Canyon, Utah MPS) Address Restricted, Price, 12000771

Duchesne County

42Dc0331, (Nine Mile Canyon, Utah MPS) Address Restricted, Price, 12000772

42Dc0530, (Nine Mile Canyon, Utah MPS) Address Restricted, Price, 12000773

42Dc0645, (Nine Mile Canyon, Utah MPS) Address Restricted, Price, 12000774

42Dc1302, (Nine Mile Canyon, Utah MPS) Address Restricted, Price, 12000775

42Dc1618, (Nine Mile Canyon, Utah MPS) Address Restricted, Price, 12000776

42Dc1619, (Nine Mile Canyon, Utah MPS) Address Restricted, Price, 12000758

[FR Doc. 2012-20815 Filed 8-23-12; 8:45 am]

BILLING CODE 4312-51-P